INTERNATIONAL TRADE COMMISSION

[Investigation No. 337-TA-1441]

Certain Glass Substrates for Liquid Crystal Displays, Products Containing the Same, and Methods for Manufacturing the Same; Notice of Institution of Investigation

AGENCY: U.S. International Trade Commission.

ACTION: Notice.

SUMMARY: Notice is hereby given that a complaint was filed with the U.S. International Trade Commission on January 31, 2025, under section 337 of the Tariff Act of 1930, as amended, on behalf of company, city, state or country. A supplement was filed on February 3, 2025. The complaint, as supplemented, alleges violations of section 337 based upon the importation into the United States, the sale for importation, and the sale within the United States after importation of certain glass substrates for liquid crystal displays, products containing the same, and methods for manufacturing the same by reason of the infringement of certain claims of U.S. Patent No. 7,851,394 (“the '394 patent”), U.S. Patent No. 8,642,491 (“the '491 patent”) and U.S. Patent No. 8,640,498 (“the '498 patent”). The complaint further alleges that an industry in the United States exists as required by the applicable Federal Statute. The complainant requests that the Commission institute an investigation and, after the investigation, issue a limited exclusion order and a cease and desist order.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on March 3, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 4 and 16 of the '394 patent; claims 2, 3, 6, 8, and 12 of the '491 patent; and claims 2, 3, 5, 6, and 9 of the '498 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “glass substrates for LCDs, display panels containing the same, and electronic devices containing the same, which are TVs, monitors, notebook and laptop computers, and tablets”;

(3) For the purpose of the investigation so instituted, the following are hereby named as parties upon which this notice of investigation shall be served:

(a) The complainant is:

Corning Incorporated, One Riverfront Plaza, Corning, NY 14831

(b) The respondents are the following entities alleged to be in violation of section 337, and are the parties upon which the complaint is to be served:

Caihong Display Devices Co., Ltd., d/b/a Irico Display Devices Co., Ltd., Area A, China-Korea Industrial Park, Qindu District, Xianyang City, Shaanxi Province, 712023, China

Hisense USA Corporation, 7310 McGinnis Ferry Road, Suwanee, GA 30024

HKC Corporation Ltd., HKC Industrial Park, 1 Gongye 2nd Road, Shilong Community, Shiyan Street, Baoan District, Shenzhen City, Guangdong Province, 518108, China

HKC Overseas Ltd., Unit 8 28/F W50, 50 Wong Chuk Hang Road, Hong Kong 999077

LG Electronics U.S.A., Inc., 111 Sylvan Avenue, Englewood Cliffs, NJ 07632

TCL China Star Optoelectronics Technology Co., Ltd., 9-2 Tangming Avenue, Guangming New District, Shenzhen City, Guangdong Province, 518132, China

TTE Technology, Inc., d/b/a TCL North America, 189 Technology Drive, Irvine, CA 92618

VIZIO, Inc., 39 Tesla, Irvine, CA 92628

Xianyang CaiHong Optoelectronics Technology Co., Ltd., No. 1, Gaoke Yilu, Qindu District, Xianyang City, Shaanxi Province, 71200, China; and

(4) For the investigation so instituted, the Chief Administrative Law Judge, U.S. International Trade Commission, shall designate the presiding Administrative Law Judge. The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: March 3, 2025.
Lisa Barton,
Secretary to the Commission.

[FR Doc. 2025-03667 Filed 3-6-25; 8:45 am]

BILLING CODE 7020-02-P